DEPARTMENT OF TRANSPORTATION

Federal Aviation Administration

Commercial Space Transportation Advisory Committee: Notice of Public Meeting

AGENCY: Federal Aviation Administration, Department of Transportation.

ACTION: Notice of public meeting.

SUMMARY: This notice announces a meeting of the Commercial Space Transportation Advisory Committee (COMSTAC).

DATES: The meeting will take place on May 3, 2022 from 1:00 p.m. to 4:00 p.m. and May 4, 2022 from 9:00 a.m. to 4:00 p.m.

ADDRESSES: Quesada Auditorium, FAA Headquarters, 3rd Floor, 800 Independence Ave. SW, Washington, DC. Guests should allow time for security screening when entering the building. Instructions on how to attend the meeting, copies of meeting minutes, and a detailed agenda will be posted on the COMSTAC website at: https://www.faa.gov/space/additional_information/comstac/.

FOR FURTHER INFORMATION CONTACT: James Hatt, Designated Federal Officer, U.S. Department of Transportation, at james.a.hatt@faa.gov, 202-549-2325. Any committee related request should be sent to the person listed in this section.

SUPPLEMENTARY INFORMATION:

I. Background

The Commercial Space Transportation Advisory Committee was created under the Federal Advisory Committee Act (FACA), in accordance with Public Law 92-463. Since its inception, industry-led COMSTAC has provided information, advice, and recommendations to the U.S. Department of Transportation through FAA regarding technology, business, and policy issues relevant to oversight of the U.S. commercial space transportation sector.

II. Proposed Agenda

Day 1

DOT/FAA Welcome Remarks

VIP Welcoming Remarks

Briefings

Year in Review

COMSTAC

Introductions

COMSTAC Reports

Regulatory Working Group

Day 2

FAA/AST Remarks

Briefings

National Space Council

Congressional Speaker

COMSTAC Reports

Safety Working Group

Innovation and Infrastructure Working Group

COMSTAC Discussion on Industry Consensus Standards

Public Comments

Future Taskers

III. Public Participation

The meeting listed in this notice will be open to the public, virtually. Please see the website not later than five working days before the meeting for details on viewing the meeting on YouTube.

The Department is committed to provide equal access to this meeting for all program participants. If you are in need of assistance or require a reasonable accommodation for this meeting, please contact the person listed in the FOR FURTHER INFORMATION CONTACT section at least 10 calendar days before the meeting. Sign and oral interpretation can be made available if requested 10 calendar days before the meeting.

Interested members of the public may submit relevant written statements for the COMSTAC members to consider under the advisory process. Statements may concern the issues and agenda items mentioned above and/or additional issues that may be relevant for the U.S. commercial space transportation industry. Interested parties wishing to submit written statements should contact the person listed in the FOR FURTHER INFORMATION CONTACT in writing (mail or email) 10 working days in advance of the meeting so that the information can be made available to COMSTAC members for their review and consideration before the meeting. Written statements should be supplied in the following formats: One hard copy with original signature and/or one electronic copy via email. Portable Document Format (PDF) attachments are preferred for email submissions. A detailed agenda will be posted on the FAA website at https://www.faa.gov/space/additional_information/comstac/.

James A. Hatt,
Designated Federal Officer, Commercial Space Transportation Advisory Committee, Federal Aviation Administration, Department of Transportation.

[FR Doc. 2022-08076 Filed 4-14-22; 8:45 am]

BILLING CODE P